ENVIRONMENTAL PROTECTION AGENCY

[EPA-HQ-OW-2016-0438; FRL-9954-50-OW]

Notice of Extension to Comment Period on the Request for Public Comments To Be Sent to EPA on Peer Review Materials To Inform the Safe Drinking Water Act Decision Making on Perchlorate

AGENCY: Environmental Protection Agency (EPA).

ACTION: Extension of comment period.

SUMMARY: The Environmental Protection Agency (EPA) is extending the comment period for the notice, “Request for Public Comments To Be Sent to EPA on Peer Review Materials To Inform the Safe Drinking Water Act Decision Making on Perchlorate.” In response to stakeholder requests, EPA is extending the comment period for an additional eleven days, from November 14, 2016, to November 25, 2016.

DATES: The comment period announced in the notice that was published on September 30, 2016 (81 FR 67350) is extended. Comments now must be received by EPA on or before November 25, 2016.

ADDRESSES: Submit your comments, identified by Docket ID No. EPA-HQ-OW-2016-0438, to the Federal eRulemaking Portal: http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Russ Perkinson at U.S. EPA, Office of Ground Water and Drinking Water, Standards and Risk Management Division, (Mail Code 4607M), 1200 Pennsylvania Avenue NW., Washington, DC 20460; telephone: 202-564-4901; or email:perkinson.russ@epa.gov.

SUPPLEMENTARY INFORMATION: On September 30, 2016, EPA published in the Federal Register (81 FR 67350), a notice announcing the release of materials for public comment. The materials will undergo expert peer review in support of the EPA's Safe Drinking Water Act decision making on perchlorate. The Agency requests comment on both the draft Biologically Based Dose-Response Model and an accompanying draft model report entitled “Biologically Based Dose-Response Models for the Effect of Perchlorate on Thyroid Hormones in the Infant, Breast Feeding Mother, Pregnant Mother, and Fetus: Model Development, Revision, and Preliminary Dose-Response Analyses.” These materials will be reviewed by an expert peer review panel and the panelists will consider the public comments received. For more detailed information about this matter, please refer to the September 30, 2016, Federal Register notice.

The notice of request for public comment, as initially published in the Federal Register, provided for written comments to be submitted to EPA on or before November 14, 2016, (a 45-day public comment period). Since publication, EPA has received a request for additional time to submit comments. EPA is extending the public comment period for eleven days until November 25, 2016.

Dated: October 19, 2016.
Joel Beauvais,
Deputy Assistant Administrator, Office of Water.

[FR Doc. 2016-25772 Filed 10-24-16; 8:45 am]

BILLING CODE 6560-50-P